DEPARTMENT OF AGRICULTURE

Agricultural Marketing Service

7 CFR Part 1212

[Doc. No. AMS-SC-21-0094]

Honey Packers and Importers Research, Promotion, Consumer Education, and Industry Information Order; Continuance Referendum

AGENCY: Agricultural Marketing Service, USDA.

ACTION: Notification of referendum.

SUMMARY: This document directs that a referendum be conducted among eligible first handlers and importers of honey or honey products to determine whether they favor continuance of the Agriculture Marketing Service's regulations regarding a national honey packers and importers research and promotion program.

DATES: This referendum will be conducted by express mail and electronic ballot from August 8, 2022 through August 26, 2022. To be eligible to vote, first handlers and importers must have handled or imported 250,000 or more pounds of honey or honey products during the representative period from January 1 through December 31, 2021, are subject to assessments under the Honey Packers and Importers Research, Promotion, Consumer Education and Industry Information Order (Order), and excluding those exempt from assessment under the Order. Ballots delivered via express mail or electronic ballot must show proof of delivery by no later than 11:59 p.m. Eastern Time (ET) on August 26, 2022 to be counted.

ADDRESSES: Copies of the Honey Packers and Importers Research, Promotion, Consumer Education and Industry Information Order may be obtained from: Referendum Agent, Market Development Division, Specialty Crops Program, Agricultural Marketing Service, U.S. Department of Agriculture, 1400 Independence Avenue SW, Room 1406-S, Stop 0244, Washington, DC 20250-0244, telephone: (202) 720-9915; or contact Katie Cook at (202) 617-4760 or via electronic mail: Katie.Cook@usda.gov.

FOR FURTHER INFORMATION CONTACT: Katie Cook, Marketing Specialist, MDD, SCP, AMS, USDA, 1400 Independence Avenue SW, Room 1406-S, Stop 0244, Washington, DC 20250-0244; telephone: (202) 617-4760; or electronic mail: Katie.Cook@usda.gov.

SUPPLEMENTARY INFORMATION: Pursuant to the Commodity Promotion, Research and Information Act of 1996 (7 U.S.C. 7411-7425) (Act), it is hereby directed that a referendum be conducted to ascertain whether continuance of the Order (7 CFR part 1212) is favored by eligible first handlers and importers of honey or honey products covered under the program. The Order is authorized under the Act.

The representative period for establishing voter eligibility for the referendum shall be the period from January 1 through December 31, 2021. Persons who handled or imported 250,000 or more pounds of honey or honey products during the representative period and are subject to assessments under the Order are eligible to vote. Persons who received an exemption from assessments for the entire representative period are ineligible to vote. The U.S. Department of Agriculture (USDA) will provide the option for electronic balloting. The referendum will be conducted by express mail and electronic ballot from August 8, 2022 through August 26, 2022. Further details will be provided in the ballot instructions.

Section 518 of the Act authorizes continuance referenda. Under § 1212.81 of the Order, USDA must conduct a referendum every 7 years to determine whether persons subject to assessment favor continuance of the Order. The last referendum was held in 2015. USDA would continue the Order if continuance is favored by a majority of the first handlers and importers voting in the referendum, and a majority of volume voting in the referendum who, during the period from January 1 through December 31, 2021, have been engaged in the handling or importation of honey or honey products.

In accordance with the Paperwork Reduction Act of 1995 (44 U.S.C. chapter 35), the referendum ballot has been approved by the Office of Management and Budget (OMB) and assigned OMB No. 0581-0093. It has been estimated that there are approximately 40 first handlers and 55 importers who will be eligible to vote in the referendum. It will take an average of 15 minutes for each voter to read the voting instructions and complete the referendum ballot.

Referendum Order

Katie Cook, Marketing Specialist, and Heather Pichelman, Acting Director, Market Development Division, SCP, AMS, USDA, Stop 0244, Room 1406-S, 1400 Independence Avenue SW, Washington, DC 20250-0244, are designated as the referendum agents to conduct this referendum. The referendum procedures at 7 CFR 1212.100 through 1212.108, which were issued pursuant to the Act, shall be used to conduct the referendum.

The referendum agent will express mail or provide access electronically to the ballots to be cast in the referendum and voting instructions to all known, eligible honey first handlers and importers prior to the first day of the voting period. Persons who handled or imported 250,000 or more pounds of honey or honey products during the representative period and are subject to assessments under the Order are eligible to vote. Persons who received an exemption from assessments during the entire representative period, from January 1 through December 31, 2021, are ineligible to vote. Any eligible first handler or importer who does not receive a ballot should contact the referendum agent no later than three days before the end of the voting period. Ballots delivered via express mail or electronic ballot must show proof of delivery by no later than 11:59 p.m. ET on August 26, 2022, to be counted.

List of Subjects in 7 CFR Part 1212

Administrative practice and procedure, Advertising, Agricultural research, Honey, Labeling, Marketing agreements, Reporting and recordkeeping requirements.

Authority: 7 U.S.C. 7411-7425; 7 U.S.C. 7401.

Erin Morris,
Associate Administrator, Agricultural Marketing Service.

[FR Doc. 2022-11294 Filed 5-27-22; 8:45 am]

BILLING CODE P